DEPARTMENT OF COMMERCE

International Trade Administration

[A-533-889]

Certain Quartz Surface Products From India: Final Results of Antidumping Duty Administrative Review; 2022-2023

AGENCY: Enforcement and Compliance, International Trade Administration, Department of Commerce.

SUMMARY: The U.S. Department of Commerce (Commerce) determines that certain producers/exporters subject to this administrative review did not make sales of subject merchandise at less than normal value (NV) during the June 1, 2022, through May 31, 2023, period of review (POR).

DATES: Applicable November 5, 2024.

FOR FURTHER INFORMATION CONTACT: Laurel LaCivita or Anjali Mehindiratta, AD/CVD Operations, Office III, Enforcement and Compliance, International Trade Administration, U.S. Department of Commerce, 1401 Constitution Avenue NW, Washington, DC 20230; telephone: (202) 482-4243 or (202) 482-9127, respectively.

SUPPLEMENTARY INFORMATION:

Background

On July 9, 2024, Commerce published the preliminary results of the 2022-2023 administrative review of the antidumping duty order on certain quartz surface products (quartz surface products) from India ¹ in the Federal Register and invited interested parties to comment.² We received no comments from interested parties on the Preliminary Results, and we have made no changes to the Preliminary Results. Accordingly, no decision memorandum accompanies this Federal Register notice. The Preliminary Results are hereby adopted in these final results. Commerce conducted this administrative review in accordance with section 751(a) of the Tariff Act of 1930, as amended (the Act).

¹ See Certain Quartz Surface Products from India and Turkey: Antidumping Duty Orders, 85 FR 37422 (June 22, 2020) (Order).

² See Certain Quartz Surface Products from India: Preliminary Results and Rescission, in Part, of Antidumping Duty Administrative Review; 2022-2023, 89 FR 56292 (July 9, 2024) (Preliminary Results), and accompanying Preliminary Decision Memorandum.

Scope of the Order

The products covered by this Order are quartz surface products. For a full description of the scope of the Order, see the Preliminary Decision Memorandum.

Rate for Non-Selected Companies

The Act and Commerce's regulations do not directly address the establishment of a rate to be applied to individual companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted-average dumping margins established for exporters and producers individually investigated, excluding any zero or de minimis margins, and any margins determined entirely {on the basis of facts available}.”

In this administrative review, we calculated dumping margins of zero percent for both mandatory respondents: Marudhar Rocks International Pvt. Ltd./Marudhar Quartz Surface Private Limited (Marudhar) ³ and Pokarna Engineered Stone Limited (PESL). Thus, in accordance with the expected method, and consistent with the U.S. Court of Appeals for the Federal Circuit's decision in Albemarle,⁴ we assign to the 44 companies, which were not selected for individual review in this administrative review, a zero percent rate based on the rates calculated for the two mandatory respondents.

³ Commerce previously collapsed Marudhar Rocks International Pvt. Ltd. and Marudhar Quartz Surface Private Limited (collectively, Marudhar) and treated the firms as a single entity. See Certain Quartz Surface Products from India: Final Results of Antidumping Duty Administrative Review, and Final Determination of No Shipments; 2021-2022, 88 FR 80689 (November 20, 2023).

⁴ See Albemarle Corp. v. United States, 821 F.3d 1345, 1352 (Fed. Cir. 2016) (Albemarle) (holding that Commerce may only use “other reasonable methods” if it reasonably concludes that the expected method is “not feasible” or “would not be reasonably reflective of potential dumping margins”).

Final Results of Review

We determine that the following estimated weighted-average dumping margin exists for the period June 1, 2022, through May 31, 2023:

Producer/exporter | Weighted-average dumping margin (percent)
Pokarna Engineered Stone Limited | 0.00
Marudhar Rocks International Pvt. Ltd./Marudhar Quartz Surface Private Limited | 0.00
Non-Individually Examined Companies ⁵ | 0.00

Disclosure

⁵ See Appendix.

Normally, Commerce discloses to interested parties the calculations of the final results of an administrative review within five days of a public announcement or, if there is no public announcement, within five days of the date of publication of the notice of final results in the Federal Register, in accordance with 19 CFR 351.224(b). However, because we have made no changes to the Preliminary Results, there are no calculations to disclose.

Assessment Rates

Consistent with section 751(a)(2)(C) of the Act and 19 CFR 351.212(b), upon completion of the administrative review, Commerce shall determine, and U.S. Customs and Border Protection (CBP) shall assess, antidumping duties on all appropriate entries of subject merchandise covered by this review. Because the respondents' weighted-average dumping margins or importer-specific assessment rates are zero in the final results of review, we intend to instruct CBP to liquidate entries without regard to antidumping duties.⁶ The final results of this administrative review shall be the basis for the assessment of antidumping duties on entries of merchandise covered by the final results of this review and for future deposits of estimated duties, where applicable.⁷

⁶ See Antidumping Proceedings: Calculation of the Weighted-Average Dumping Margin and Assessment Rate in Certain Antidumping Proceedings; Final Modification, 77 FR 8101, 8102-03 (February 14, 2012); see also 19 CFR 351.106(c)(2).

⁷ See section 751(a)(2)(C) of the Act.

In accordance with Commerce's “automatic assessment” practice, for entries of subject merchandise during the POR for which Marudhar and PESL did not know that their merchandise was destined for the United States, we will instruct CBP to liquidate such entries at the all-others rate established in the original less-than-fair value (LTFV) investigation (i.e., 1.02 percent) if there is no rate for the intermediate company(ies) involved in the transaction.

Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of quartz surface products from India entered, or withdrawn from warehouse, for consumption on or after the date of publication as provided for by section 751(a)(2)(C) of the Act: (1) the cash deposit rate for the companies listed above (including the non-selected companies listed in the appendix) will be equal to the weighted-average dumping margin established in the final results of this administrative review (i.e., 0.00 percent); (2) for merchandise exported by producers or exporters not covered in this review but covered in a prior completed segment of the proceeding, the cash deposit rate will continue to be the company-specific rate published in the completed segment for the most recent period; (3) if the exporter is not a firm covered in this review or another completed segment of this proceeding, but the producer is, the cash deposit rate will be the company-specific rate established for the most recent completed segment for the producer of the merchandise; and (4) the cash deposit rate for all other producers or exporters will continue to be 1.02 percent, the all-others rate established in the less-than-fair-value investigation.⁸ These cash deposit requirements, when imposed, shall remain in effect until further notice.

⁸ See Order.

Notification to Importers

This notice serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: October 29, 2024.
Ryan Majerus,
Deputy Assistant Secretary for Policy and Negotiations, performing the non-exclusive functions and duties of the Assistant Secretary for Enforcement and Compliance.

Appendix

Non-Individually Examined Companies Receiving a Review-Specific Rate

1. 3HQ Surfaces Pvt. Ltd.

2. Antique Granito Shareholders Trust

3. Antique Marbonite Pvt Ltd; Prism Johnson Limited; Shivam Enterprises

4. Argil Ceramics

5. ARO Granite Industries Ltd.

6. ASI Industries Limited

7. Asian Granito India Ltd.

8. Baba Super Minerals Pvt Ltd.

9. Camrola Quartz Limited

10. Classic Marble Co Pvt Ltd.

11. Cuarzo

12. Divine Surfaces Private Limited

13. Divya Shakti Granites Ltd.

14. Divya Shakti Ltd.

15. Esprit Stones Pvt Ltd.

16. Evetis Stone Pvt Ltd.

17. Global Stones Pvt. Ltd.

18. Global Surfaces Ltd.

19. Glowstone Industries Pvt Ltd.

20. Hi Elite Quartz LLP

21. Imperiaal Granimarmo Pvt Ltd.

22. Indus Trade and Technology LLC

23. Internaational Stones India Pvt. Ltd.

24. Keros Stone LLP

25. Mahi Granites Pvt Ltd.

26. Malbros Marbles and Granites Industries

27. Mountmine Impex Pvt Ltd.

28. Pacific Industries Ltd.

29. Pacific Quartz Surfaces LLP

30. Paradigm Stone India Pvt Ltd.

31. Pelican Buildmat Pvt Ltd.

32. Pelican Quartz Stone

33. QuartzKraft LLP

34. Renshou Industries

35. Rocks Forever

36. Safayar Ceramics Pvt Ltd.

37. Satya Exports

38. Shanmukha Exports

39. Southern Rocks and Minerals Pvt Ltd.

40. Sunex Stones Pvt Ltd.

41. Tab India Granites Pvt. Ltd.

42. Universal Marketing Agencies Private Limited

43. Universal Quartz & Natural Stones Pvt Ltd.

44. Venkata Sri Balaji Quartz Surfaces

[FR Doc. 2024-25611 Filed 11-4-24; 8:45 am]

BILLING CODE 3510-DS-P